DEPARTMENT OF DEFENSE

Defense Logistics Agency

Privacy Act of 1974; Systems of Records

AGENCY: Defense Logistics Agency, DOD.

ACTION: Notice to alter systems of records.

SUMMARY: The Defense Logistics Agency proposes to alter a system of records notice in its inventory of record systems subject to the Privacy Act of 1974 (5 U.S.C. 552a), as amended. The notice is being altered to expand the categories of records being maintained, and a routine use is being added to allow disclosure of information to the Department of Justice for the purpose of asset identification, location, and recovery; and for immigration and naturalization record verification purposes.

DATES: This action will be effective without further notice on February 22, 2000, unless comments are received that would result in a contrary determination.

ADDRESSES: Send comments to the Privacy Act Officer, Headquarters, Defense Logistics Agency, ATTN: CAAR, 8725 John J. Kingman Road, Suite 2533, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on January 5, 2000, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 13, 2000.
L.M. Bynum,
Alternate OSD Federal Register Liaison Officer, Department of Defense.

S800.10 MM

System name:

Federal Property End Use Files (November 7, 1994, 59 FR 55465).

Changes:

System identifier:

Delete “MM” and replace with “DLSC.”

* * * * *

System location:

Delete entry and replace with “Records are maintained by the Commander, Defense Reutilization and Marketing Service, 74 Washington Avenue North, Battle Creek, MI 49017-3092, and the Commanders of the DLA Defense Contract Management Districts. Official mailing addresses are published as an appendix to DLA’s compilation of systems of records notices.”

* * * * *

Categories of records in the system:

Insert “citizenship, alien registration data,” and “identity of firm officials,”.

Authority for maintenance of the system:

Delete entry and replace with “10 U.S.C. 133, Under Secretary of Defense for Acquisition and Technology; 22 U.S.C. 2751-2799, Arms Export Control; 40 U.S.C. 471-484, Federal Property Management; 50 App. U.S.C. 2401 et seq., Export Administration; E.O. 9397 (SSN); E.O. 12738 and E.O. 12981, Export Controls; 22 CFR part 122, International Traffic in Arms Regulations; 41 CFR part 101, Federal Property Management) and DoD Directives 2030.8, 2040.2 and 2040.3 and DoD Instruction 4161.2.”

* * * * *

Routine uses of records maintained in the system, including categories of users and the purposes of such uses:

Add a new paragraph “To the Department of Justice for asset identification, location and recovery; and for immigration and naturalization data verification.”

* * * * *

Record source categories:

Insert “investigating or” after “agencies.” and replace “and export control regulations” with “export control, or other laws and regulations.”

* * * * *

S800.10 DLSC

System name:

Federal Property End Use Files.

System location:

Records are maintained by the Commander, Defense Reutilization and Marketing Service, 74 Washington Avenue North, Battle Creek, MI 49017-3092, and the Commanders of the DLA Defense Contract Management Districts. Official mailing addresses are published as an appendix to DLA's compilation of systems of records notices.

Categories of individuals covered by the system:

Individuals, businesses, and organizations who bid on or participate in the DoD surplus personal property sales program or the excess contractor inventory sales program.

Categories of records in the system:

Applicant's name, address, date and place of birth, Social Security Number, citizenship, alien registration data, telephone number, company affiliation, identity of firm officials, nature of business, firm's identification/tax number, and information on the intended end use of the property.

Authority for maintenance of the system:

10 U.S.C. 133, Under Secretary of Defense for Acquisition and Technology; 22 U.S.C. 2751-2799, Arms Export Control; 40 U.S.C. 471-484, Federal Property Management; 50 App. U.S.C. 2401 et seq., Export Administration; E.O. 9397 (SSN); E.O. 12738 and E.O. 12981, Export Controls; 22 CFR part 122, International Traffic in Arms Regulations; 41 CFR part 101, Federal Property Management) and DoD Directives 2030.8, 2040.2 and 2040.3 and DoD Instruction 4161.2.

Purpose(s):

Records are used in the management of the property disposal programs to determine bidder eligibility to participate in the programs and to ensure that property recipients comply with the terms of the sale regarding end use of the property.

Routine uses of records maintained in the system, including categories of users and the purposes of such uses:

In addition to the disclosures generally permitted under 5 U.S.C. 552a(b) of the Privacy Act, these records or information contained therein may specifically be disclosed outside the DoD as a routine use pursuant to 5 U.S.C. 552a(b)(3) as follows:

To the Department of the Treasury to ensure that recipients comply with U. S. Customs rules and regulations regarding movement of the property.

To the Department of Transportation to ensure compliance with rules regarding Federal Aviation Administration airworthiness certificates for surplus military aircraft.

To the General Services Administration to determine the presence of debarment proceedings against a bidder.

To the Department of State to ensure compliance with the International Traffic in Arms regulations.

To the Department of Commerce to ensure compliance with the Export Administration regulations.

To the Department of Justice for asset identification, location and recovery; and for immigration and naturalization data verification.

The “Blanket Routine Uses” set forth at the beginning of DLA's compilation of systems of records notices apply to this system.

Policies and practices for storing, retrieving, accessing, retaining, and disposing of records in the system:

Storage:

Records are stored in paper and computerized form.

Retrievability:

Records are retrieved by name, Social Security Number, company name, or sales number.

Safeguards:

Records are maintained in areas accessible only to DLA personnel who must access the records to perform their duties. The computer files are password protected with access restricted to authorized users.

Retention and disposal:

Records pertaining to foreign excess personal property are destroyed 6 years after completion of trade security controls on individual transaction; records pertaining to other surplus items are destroyed 7 years after bid award date.

Sales records involving violation of law or regulation are destroyed 15 years after case adjudication is completed.

System manager(s) and address:

Executive Director, Logistics Management, Defense Logistics Support Command, ATTN: DLSC-L, Defense Logistics Agency, 8725 John J. Kingman Road, Suite 2533, Fort Belvoir, VA 22060-6221.

Notification procedures:

Individuals seeking to determine whether this system of records contains information about themselves should address written inquiries to or visit the Privacy Act Officer of the particular DLA activity involved. Official mailing addresses are published as an appendix to DLA's compilation of systems of records notices.

Record access procedures:

Individuals seeking access to records about themselves contained in this system of records should address written inquiries to the Privacy Act Officer of the particular DLA activity involved. Official mailing addresses are published as an appendix to DLA's compilation of systems of records notices.

Contesting record procedures:

The DLA rules for accessing records, for contesting contents and appealing initial agency determinations are contained in DLA Regulation 5400.21, 32 CFR part 323, or may be obtained from the Privacy Act Officer, Headquarters, Defense Logistics Agency, ATTN: CAAR, 8725 John J. Kingman Road, Suite 2533, Fort Belvoir, VA 22060-6221.

Record source categories:

Information is provided by the record subject and by Federal agencies investigating or monitoring arms trafficking, property movement, export control, or other laws and regulations.

Exemptions claimed for the system:

None.

[FR Doc. 00-1316 Filed 1-19-00; 8:45 am]

BILLING CODE 5001-10-F